DEPARTMENT OF HOMELAND SECURITY

Coast Guard

33 CFR Part 165

[Docket No. USCG-2025-0517]

Safety Zones; Fireworks Displays in the Fifth Coast Guard District, Brick Township, NJ

AGENCY: Coast Guard, DHS.

ACTION: Notification of enforcement of regulation.

SUMMARY: The Coast Guard will enforce a safety zone for the Township of Brick Summer Fest fireworks displays on four dates in July. This action is being taken to provide for the safety of life on navigable water during each of the three separate land-based fireworks displays. Our regulation for marine events within the Fifth Coast Guard District identifies the regulated area for this event, located in in Brick, NJ. During the enforcement periods, the operator of any vessel in the regulated area must comply with directions from the Patrol Commander or any Officer Patrol displaying a Coast Guard ensign.

DATES: The portion of the regulation 33 CFR 165.506, for the location identified in entry 5 of table 1 to paragraph (h)(1) will be enforced from 9 p.m. through 9:45 p.m. on each of the following four dates: July 3, 2025, July 10, 2025, July 17, 2025, and July 24, 2025.

FOR FURTHER INFORMATION CONTACT: If you have questions about this notification of enforcement, call or email Petty Officer Emmanuel Melendez, U.S. Coast Guard, Sector Delaware Bay, Waterways Management Division, telephone 206-815-6688, option 3, email SecDelBayWWM@uscg.mil.

SUPPLEMENTARY INFORMATION: The Coast Guard will enforce the safety zone in table 1 paragraph (h)(1) to 33 CFR 165.506, entry No. 5 for four periods, for three separate land-based fireworks displays. The enforcement periods will be from 9 p.m. through 9:45 p.m. on July 3, 2025, July 10, 2025, July 17, 2025, and July 24, 2025. This action is necessary to ensure the safety of life on the navigable waters of the United States immediately prior to, during, and immediately after fireworks displays. Our regulation for safety zones of fireworks displays within the Fifth Coast Guard District, table 1 to paragraph (h)(1) to 33 CFR 165.506, entry 5 specifies the location of the regulated area as all waters of the Metedeconk River within a 300-yard radius of the fireworks launch platform in approximate position latitude 40°03′23″ N, longitude 074°06′39″ W, near the shoreline at Brick Township, NJ. During the enforcement period, as reflected in § 165.506(d), vessels may not enter, remain in, or transit through the safety zone unless authorized by the Captain of the Port or designated Coast Guard patrol personnel on-scene.

In addition to this notice of enforcement in the Federal Register, the Coast Guard will provide notification of this enforcement period via Local Notice to Mariners and Broadcast Notice to Mariners.

Kate F. Higgins-Bloom,
Captain, U.S. Coast Guard, Captain of the Port, Sector Delaware Bay.

[FR Doc. 2025-12646 Filed 7-7-25; 8:45 am]

BILLING CODE 9110-04-P